FEDERAL MARITIME COMMISSION

[DOCKET NO. 20-21]

Astra Supply Chain, LLC and TDS Management, LLC, Complainants v. Qingdao Perimeter Global Logistics Co. Ltd. and Premier Global Logistics LLC, Respondents; Notice of Filing of Complaint and Assignment; Served: December 18, 2020

Notice is given that a complaint has been filed with the Federal Maritime Commission (Commission) by Astra Supply Chain, LLC., and TDS Management, LLC, hereinafter “Complainants”, against Qingdao Perimeter Global Logistics Co, Ltd. (Qingdao PGL), and Premier Global Logistics LLC (SC PGL), hereinafter “Respondents”. Complainant alleges that Respondent Qingdao is a Chinese ocean transportation intermediary not registered with the Commission, and that Respondent SC PGL is a South Carolina limited liability company and an ocean transportation intermediary not licensed by the Commission.

Complainant alleges that Respondents violated sections 19(b)(1) of the Shipping Act of 1984 with regard performance of ocean transportation intermediary services without establishing financial responsibility, and 46 U.S.C. 41102(c), and 46 CFR 515.32(c) with regard to a failure to release containers. The full text of the complaint can be found in the Commission's Electronic Reading Room at https://www2.fmc.gov/readingroom/proceeding/20-20/.

This proceeding has been assigned to Office of Administrative Law Judges. The initial decision of the presiding office in this proceeding shall be issued by December 18, 2021, and the final decision of the Commission shall be issued by June 20, 2022.

Rachel E. Dickon,
Secretary.

[FR Doc. 2020-28624 Filed 12-28-20; 8:45 am]

BILLING CODE 6730-02-P